DEPARTMENT OF TRANSPORTATION

Federal Aviation Administration

Public Notice for a Change in Use of Aeronautical Property At Dillant-Hopkins Airport, Keene, NH

AGENCY: Federal Aviation Administration (FAA), DOT.

ACTION: Request for public comments.

SUMMARY: The FAA is requesting public comment on the City of Keene, New Hampshire's request to change a portion (approx. 3.4 acres) of Airport property from aeronautical use to non-aeronautical use. The property is located on Route 32 (Map 34, Lot 32) and is currently used for approach protection and land use compatibility. Upon disposition the property will be used as property for a restaurant, miniature golf course and go-cart track. The property was acquired under AIP Project No. 3-33-0008-13.

The disposition of proceeds from the disposal of airport property will be in accordance with FAA's Policy and Procedures Concerning the Use of Airport Revenue, published in the Federal Register on February 16, 1999.

DATES: Comments must be received on or before November 29, 2004.

ADDRESSES: Documents are available for review by appointment by contacting Mr. Edward Mattern, Airport Manager at Dillant-Hopkins Airport, 80 Airport Road, Keene, New Hampshire 03431-4455, Telephone (603) 357-9853 and by contacting Donna R. Witte.

FOR FURTHER INFORMATION CONTACT: Donna R. Witte at the Federal Aviation Administration, 12 New England Executive Park, Burlington, Massachusetts 01803, Telephone (781) 238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on October 20, 2004.
Bradley A. Davis,
Manager, Engineering and Safety Branch, New England Region.

[FR Doc. 04-24267 Filed 10-28-04; 8:45 am]

BILLING CODE 4910-13-M